DEPARTMENT OF HOUSING AND URBAN DEVELOPMENT

[Docket No. FR-5280-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only,” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Gordon Creed, Acting Deputy Assistant Commissioner, General Services Administration, Office of Property Disposal, 18th & F Streets, NW., Washington, DC 20405; (202) 501-0084; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305 (These are not toll-free numbers).

Dated: July 23, 2009.
Mark R. Johnston,
Deputy Assistant Secretary for Special Needs.

TITLE V, FEDERAL SURPLUS PROPERTY PROGRAM, FEDERAL REGISTER REPORT FOR 07/31/2009

Suitable/Available Properties

Building

Alaska

Tanana Fire Station Airport

Tanana AK 99777

Landholding Agency: GSA

Property Number: 54200930002

Status: Excess

GSA Number: 9-I-AK-821

Comments: 2776 sq. ft., off-site use only

Utah

Portion/Clearfield Fed. Center

Clearfield UT 84016

Landholding Agency: GSA

Property Number: 54200930003

Status: Excess

GSA Number: 7-G-UT-414-4

Directions: Bldgs. 2, C-6, C-7, Lot 1, D5 & Wareyard

Comments: 4 bldgs/approximately 402,535 sq. ft. with land, to be vacated 11/09

Washington

Manufactured Home

1500 S. Keyes Rd, Lot B

Yakima WA 98901

Landholding Agency: Interior

Property Number: 61200930002

Status: Unutilized

Comments: 1067 sq. ft. double-wide, off-site use only

Land

Idaho

8.9 acres

Portion of Tract E & F

Rupert ID 83350

Landholding Agency: Interior

Property Number: 61200930001

Status: Unutilized

Comments: agricultural production, access by dirt road

Unsuitable Properties

Building

Alaska

Federal Building 240 Front Street

Nome AK

Landholding Agency: GSA

Property Number: 54200930001

Status: Excess

GSA Number: 9-G-AK-820

Reasons: Within 2000 ft. of flammable or explosive material

California

Bldg. 01474

Naval Air Weapons

China Lake CA 93555

Landholding Agency: Navy

Property Number: 77200930001

Status: Excess

Reasons: Secured Area

Bldgs. 2246, 2247, 5632T Marine Corps Air Station

Miramar CA

Landholding Agency: Navy

Property Number: 77200930002

Status: Excess

Reasons: Extensive deterioration, Secured Area

Virginia

Bldgs. 113, 3088 Naval Amphibious

Little Creek

Norfolk VA 23521

Landholding Agency: Navy

Property Number: 77200930004

Status: Unutilized

Reasons: Secured Area

6 Bldgs.

Naval Station

Norfolk VA 23511

Landholding Agency: Navy

Property Number: 77200930005

Status: Excess

Directions: FRP14, FRP15, FRP33, P17, P64, LP69

Reasons: Extensive deterioration, Secured Area

Unsuitable Properties

Land

Hawaii

1,100 sq. ft./Land

Marine Corps Training

Area Bellows

Keolu Hills HI

Landholding Agency: Navy

Property Number: 77200930006

Status: Unutilized

Reasons: Secured Area

New York

10,000 sq. ft./Land

Marine Corps Rsv Training Ctr

Brooklyn NY 11234

Landholding Agency: Navy

Property Number: 77200930003

Status: Underutilized

Reasons: Within 2000 ft. of flammable or explosive material Secured Area

[FR Doc. E9-17970 Filed 7-30-09; 8:45 am]

BILLING CODE 4210-67-P